DEPARTMENT OF TRANSPORTATION

Federal Aviation Administration

Forty-Sixth Meeting, RTCA Special Committee 186: Automatic Dependent Surveillance-Broadcast (ADS-B)

AGENCY: Federal Aviation Administration (FAA), DOT.

ACTION: Notice of RTCA Special Committee 186 Automatic Dependent Surveillance Broadcast (ADS-B) meeting.

SUMMARY: The FAA is issuing this notice to advise the public of a meeting of RTCA Special Committee 186 Automatic Dependent Surveillance Broadcast (ADS-B).

DATES: The meeting will be held September 22-25, 2008, at 9 a.m. (Unless Otherwise Noted).

ADDRESSES: The meeting will be held at RTCA Conference Rooms, 1828 L Street, NW., Suite 805, Washington, DC 20036.

FOR FURTHER INFORMATION CONTACT: (1) RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

• Sept. 22: Monday

• All Day, Working Group 1, ATSA SURF IA, Colson Board Room.

• All Day, Requirements Focus Group (RFG), Maclntosh-NBAA Room & Hilton ATA Room.

• Sept. 23: Tuesday

• All Day, Working Group 1, ATSA SURF IA, Colson Board Room.

• All Day, Requirements Focus Group (RFG), Maclntosh-NBAA Room & Hilton ATA Room.

• All Day, Ad Hoc—CDII Symbology, ARINC Room.

• April 24: Wednesday

• All Day, Working Group 1, ATSA SURF IA, ARINC Room.

• All Day, Requirements Focus Group (RFG). Maclntosh-NBAA Room & Hilton ATA Room.

• All Day, Ad Hoc—CDII Symbology, Garmin Room.

• All Day, Working Group 4, Colson Board Room.

• Sept. 25: Thursday

• Open Plenary (Chairman's Introductory Remarks, Review Meeting Agenda, Review/Approval of the Forty-Fifth Meeting Summary, RICA Paper No. 207 08/SC 186-266, Date, Place, and Time of Next Meeting).

• FAA Surveillance and Broadcast Services (SBS) Program—Status.

• Review of EUROCAE WG-51 Activities.

• Working Group Reports.

• WG-1—Operations and Implementation.

• WG-2—TIS-B MASPS.

• WG-3—1090 MHz MOPS.

• WG-4—Applications Technical Requirements.

• WG-5—UAT MOPS.

• RFG—Requirements Focus Group.

• Ad Hock Reports.

• CDTI Symbology.

• TIS-B Service Status.

• Consider for Approval—New Document—Safety, Performance and Interoperability Requirements Document for Enhanced Visual Separation on Approach (ATSA-VSA), RTCA Paper No. 190-08/SC 186-265.

• Closing Plenary Session (New/Other Business, Review Actions Items/Work Program, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 2, 2008.
Francisco Estrada C.,
RTCA Advisory Committee.

[FR Doc. E8-21189 Filed 9-12-08; 8:45 am]

BILLING CODE 4910-13-M